DEPARTMENT OF THE INTERIOR

Fish and Wildlife Service

Availability of Draft Comprehensive Conservation Plan and Environmental Assessment for Wyandotte National Wildlife Refuge, Wyandotte, Michigan, and Ecorse, MI

AGENCY: Fish and Wildlife Service, Interior.

ACTION: Notice of availability.

SUMMARY: Pursuant to the Refuge Improvement Act of 1997, the U.S. Fish and Wildlife Service has published the Wyandotte National Wildlife Refuge Draft Comprehensive Conservation Plan and Environmental Assessment. The Plan describes how the Service intends to manage the Refuge for the next 15 years. The Plan can be viewed online at http://midwest.fws.gov/planning/wyandotte.htm.

DATES: Written comments must be received by September 20, 2001. All comments should be addressed to Doug Spencer, Shiawassee National Wildlife Refuge, 6975 Mower Road, Saginaw, MI 48601. Comments may also be submitted through the Service's regional website at: http://midwest.fws.gov/planning/wyandotte.htm.

ADDRESSES: A copy of the Plan or a summary may be obtained by writing to Doug Spencer at the address above or by placing a request through the website.

FOR FURTHER INFORMATION CONTACT: For additional information contact Doug Spencer, Shiawassee National Wildlife Refuge, 6975 Mower Road, Saginaw, MI 48601. Phone (517) 777-5930 or E-mail doug-spencer@fws.gov.

SUPPLEMENTARY INFORMATION: The Refuge is located in the Lower Detroit River, in the cities of Wyandotte and Ecorse in Wayne County, Michigan. When created, the Refuge consisted of two islands, Grassy and Mamajuda, and the shallow water shoals around the islands. Since the Refuge's creation, Mamajuda Island has decreased in size and is exposed only during low water levels. Both islands are located on a bar that lies between the Trenton and Fighting Island ship channels in the central part of the Detroit River. This bar extends from the mouth of the Ecorse River to the head of Grosse Ile, a distance of approximately 3.5 miles. It ranges from one-quarter to one-half mile in width and at present it is covered with 3 to 8 feet of water. At the present time, only 72 acres of Grassy Island are exposed. The 18.5-acre Mud Island and 71.5 acres of submerged aquatic shoals were added to the Refuge on June 14, 2001, bringing the entire Wyandotte National Wildlife Refuge to 394 acres in size.

The Draft Comprehensive Conservation Plan emphasizes preserving the wildlife habitat values that exist on the Refuge and addressing contaminant issues on Grassy Island.

Dated: July 31, 2001.
William F. Hartwig,
Regional Director.

[FR Doc. 01-21008 Filed 8-20-01; 8:45 am]

BILLING CODE 4310-55-M